DEPARTMENT OF AGRICULTURE

[Docket No. USDA-2022-0010]

Agency Information Collection Activities; USDA Generic Solution for Solicitation for Funding Opportunity Announcement

ACTION: Notice; request for comments.

SUMMARY: In compliance with the Paperwork Reduction Act, the U.S. Department of Agriculture (USDA), is requesting comments concerning a proposed authorization to conduct the USDA Generic Solution for Solicitation for Funding Opportunity Announcement information collection request. This is a new information collection request.

DATES: Submit written comments on or before May 31, 2022.

ADDRESSES: We invite you to submit comments on this notice. For proper delivery, in your comment, specify “USDA Generic Solution for Solicitation for Funding Opportunity Announcement Information Collection Request (ICR).”

Electronic Submission of Comments. You may submit comments, identified by Docket ID: USDA-2022-0010, electronically through the Federal eRulemaking Portal: http://www.regulations.gov. Follow the instructions provided on that site to submit comments electronically.

Submission of Comments by Mail, Hand Delivery, or Courier. You may submit comments to the Office of Budget and Program Analysis, USDA, Jamie L. Whitten Building, Room 101-A, 1400 Independence Ave. SW, Washington, DC 20250. USDA strongly encourages commenters to submit comments electronically. Electronic submission of comments allows you maximum time to prepare and submit a comment and ensures timely receipt by USDA.

FOR FURTHER INFORMATION CONTACT: Steve O'Neill, 202-720-0038, stephen.oneill@usda.gov.

SUPPLEMENTARY INFORMATION: The U.S. Department of Agriculture (USDA) conducts a pre-clearance consultation program to provide the public and Federal agencies an opportunity to comment on proposed, revised, and continuing information collections before submitting them to the Office of Management and Budget (OMB).

This program helps to ensure requested data can be provided in the desired format, reporting burden (time and financial resources) is minimized, collection instruments are clearly understood, and the impact of collection requirements can be properly assessed.

Periodically USDA solicits grant applications on http://grants.gov by issuing a Funding Opportunity Announcement, Request for Applications, Notice of Funding Announcement, Notice of Solicitation of Applications, Grants.gov announcement, or other funding announcement type. To ensure grants are awarded to the applicant(s) best suited to perform the functions of the grant, applicants are generally required to submit an application. The first part of USDA grant applications consists of submitting the application form(s), which includes the Standard Form 424, Application for Federal Assistance and may include additional standard grant application forms. The second part of a grant application usually requires a technical proposal demonstrating the applicant's capabilities in accordance with a statement of work or selection criteria and other related information as specified in the funding announcement. Following the grant award, the grant awardee may also be required to provide progress reports or additional documents.

A Federal agency generally cannot conduct or sponsor a collection of information, and the public is generally not required to respond to an information collection, unless it is approved by OMB under the PRA and displays a currently valid OMB Control Number. In addition, notwithstanding any other provisions of law, no person will be subject to penalty for failing to comply with a collection of information if the collection of information does not display a valid Control Number. See 5 CFR 1320.5(a) and 1320.6. USDA intends to seek approval from OMB for this collection of information for 3 years.

Interested parties are encouraged to provide comments to the individual listed in the ADDRESSES section above.

Comments must be written to receive consideration, and they will be summarized and may be included in the request for OMB approval of the final ICR. The comments will also become a matter of public record. Comments responsive to this request will be made available on-line, without redaction, as part of the submission to OMB; therefore, USDA is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including using appropriate automated, electronic, mechanical, or other technological collection techniques or other forms of information technology, for example, permitting electronic submission of responses.

USDA will consider the comments received and amend the ICR as appropriate. The final ICR package will then be submitted to OMB for review and approval. At that time, USDA will issue another Federal Register notice to announce the submission of the ICR to OMB and the opportunity to submit additional comments to OMB.

Agency: USDA Office of the Secretary.

Type of Review: Request for approval of a new collection.

Title of Collection: USDA Generic Solution for Solicitation for Funding Opportunity Announcements.

Affected Public: State, Local, and Tribal Governments; Private Sector—businesses or other for-profits and not-for-profit institutions.

Estimated Number of Respondents: 10,000.

Frequency: On occasion.

Total Estimated Annual Responses: 20,000.

Estimated Average Time per Response: 20 hours.

Estimated Total Annual Burden Hours: 400,000 hours.

Total Estimated Annual Other Cost Burden: $0.

Stephen O'Neill,
Legislative and Regulatory Division, OBPA-USDA.

[FR Doc. 2022-06642 Filed 3-29-22; 8:45 am]

BILLING CODE 3410-90-P